COMMITTEE FOR PURCHASE FROM PEOPLE WHO ARE BLIND OR SEVERELY DISABLED

Procurement List; Proposed Addition and Deletions

AGENCY: Committee for Purchase From People Who Are Blind or Severely Disabled.

ACTION: Proposed addition to and deletions from the Procurement List.

SUMMARY: The Committee is proposing to add a service to the Procurement List that will be provided by a nonprofit agency employing persons who are blind or have other severe disabilities, and deletes products and a service previously furnished by such agencies.

DATES: Comments must be received on or before September 24, 2017.

ADDRESSES: Committee for Purchase From People Who Are Blind or Severely Disabled, 1401 S. Clark Street, Suite 715, Arlington, Virginia 22202-4149.

FOR FURTHER INFORMATION CONTACT: For further information or to submit comments contact: Amy B. Jensen, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Addition

If the Committee approves the proposed addition, the entity of the Federal Government identified in this notice will be required to procure the service listed below from a nonprofit agency employing persons who are blind or have other severe disabilities.

The following service is proposed for addition to the Procurement List for production by the nonprofit agency listed:

Service

Service Type: Custodial Service

Mandatory for: US Geological Survey, Wetland and Aquatic Research Center, 700 Cajundome Boulevard, Lafayette, LA

Mandatory Source(s) of Supply: Louisiana Industries for the Disabled, Inc., Baton Rouge, LA

Contracting Activity: Dept of the Interior, US Geological Survey

Deletions

The following products and service are proposed for deletion from the Procurement List:

Products

NSN(s)—Product Name(s):

6920-01-NSH-9020—Target, Silhouette

6920-01-NSH-9021—M-16 w/Frame

6920-01-NSH-9022—M-16 w/o Frame

Mandatory Source(s) of Supply: Employment Source, Inc., Fayetteville, NC

Contracting Activity: W6QM MICC FDO FT BRAGG

NSN(s)—Product Name(s): 7510-01-431-6527—Foam Stamp Pad, Size #2, 3¼″ x 6¼″, Blue

Mandatory Source(s) of Supply: Cattaraugus County Chapter, NYSARC, Olean, NY

Contracting Activity: General Services Administration, New York, NY

NSN(s)—Product Name(s):

8410-01-443-9499—Shirt, Tuck-in, Army, Women's, Long Sleeved, Green, 26XXLx35 12

8410-01-443-9425—Shirt, Tuck-in, Army, Women's, Long Sleeved, Green, 26XLx34

8410-01-443-9411—Shirt, Tuck-in, Army, Women's, Long Sleeved, Green, 24XXLx35½

8410-01-443-9394—Shirt, Tuck-in, Army, Women's, Long Sleeved, Green, 22XXLx35½

8410-01-443-9389—Shirt, Tuck-in, Army, Women's, Long Sleeved, Green, 22XLx34

8410-01-443-9384—Shirt, Tuck-in, Army, Women's, Long Sleeved, Green, 20XXLx35½

8410-01-443-9380—Shirt, Tuck-in, Army, Women's, Long Sleeved, Green, 20XLx34

8410-01-443-9122—Shirt, Tuck-in, Army, Women's, Long Sleeved, Green, 18XXLx35½

8410-01-443-9117—Shirt, Tuck-in, Army, Women's, Long Sleeved, Green, 16XLx34

8410-01-443-9110—Shirt, Tuck-in, Army, Women's, Long Sleeved, Green, 16XXLx35½

8410-01-443-9088—Shirt, Tuck-in, Army, Women's, Long Sleeved, Green, 16XLx34

8410-01-443-9084—Shirt, Tuck-in, Army, Women's, Long Sleeved, Green, 14XXLx35½

8410-01-443-9029—Shirt, Tuck-in, Army, Women's, Long Sleeved, Green, 14XLx34

8410-01-443-9027—Shirt, Tuck-in, Army, Women's, Long Sleeved, Green, 12XXLx35½

8410-01-443-9022—Shirt, Tuck-in, Army, Women's, Long Sleeved, Green, 12XLx34

8410-01-443-9016—Shirt, Tuck-in, Army, Women's, Long Sleeved, Green, 10XXLx35½

8410-01-443-8989—Shirt, Tuck-in, Army, Women's, Long Sleeved, Green, 10XLx34

8410-00-0-sht503—Shirt, Tuck-in, Army, Women's, Long Sleeved, Green, LS

8410-01-415-8427—Shirt, Dress, Army, Women's, Long Sleeved, Green, 20RX31

8410-01-415-8425—Shirt, Dress, Army, Women's, Long Sleeved, Green, 8RX31

8410-01-415-7027—Shirt, Dress, Army, Women's, Long Sleeved, Green, 16Rx31

8410-01-415-7023—Shirt, Dress, Army, Women's, Long Sleeved, Green, 4lX32½

8410-01-415-2914—Shirt, Dress, Army, Women's, Long Sleeved, Green, 16Lx32½

8410-01-415-2913—Shirt, Dress, Army, Women's, Long Sleeved, Green, 24Rx31

8410-01-415-2912—Shirt, Dress, Army, Women's, Long Sleeved, Green, 16Px29½

8410-01-415-2910—Shirt, Dress, Army, Women's, Long Sleeved, Green, 20Px29½

8410-01-415-2908—Shirt, Dress, Army, Women's, Long Sleeved, Green, 26Rx31

8410-01-415-2907—Shirt, Dress, Army, Women's, Long Sleeved, Green, 22Rx31

8410-01-415-2905—Shirt, Dress, Army, Women's, Long Sleeved, Green, 20Lx32½

8410-01-415-1594—Shirt, Dress, Army, Women's, Long Sleeved, Green, 6Lx32½

8410-01-415-1592—Shirt, Dress, Army, Women's, Long Sleeved, Green, 14Rx31

8410-01-415-1589—Shirt, Dress, Army, Women's, Long Sleeved, Green, 6Rx31

8410-01-415-1586—Shirt, Dress, Army, Women's, Long Sleeved, Green, 8Lx32½

8410-01-415-1585—Shirt, Dress, Army, Women's, Long Sleeved, Green, 18Px29½

8410-01-415-1584—Shirt, Dress, Army, Women's, Long Sleeved, Green, 16Rx31

8410-01-415-1583—Shirt, Dress, Army, Women's, Long Sleeved, Green, 18Lx32½

8410-01-415-1582—Shirt, Dress, Army, Women's, Long Sleeved, Green, 18R31

8410-01-415-1581—Shirt, Dress, Army, Women's, Long Sleeved, Green, 12Lx32½

8410-01-415-1580—Shirt, Dress, Army, Women's, Long Sleeved, Green, 12Lx32½

8410-01-415-1579—Shirt, Dress, Army, Women's, Long Sleeved, Green, 14Lx32½

8410-01-415-1578—Shirt, Dress, Army, Women's, Long Sleeved, Green, 12Px29½

8410-01-415-1577—Shirt, Dress, Army, Women's, Long Sleeved, Green, 4Rx31

8410-01-415-1576—Shirt, Dress, Army, Women's, Long Sleeved, Green, 10Rx31

8410-01-415-1575—Shirt, Dress, Army, Women's, Long Sleeved, Green, 10Px29½

8410-01-415-1574—Shirt, Dress, Army, Women's, Long Sleeved, Green, 8Px29½

8410-01-415-1573—Shirt, Dress, Army, Women's, Long Sleeved, Green, 10Longx32½

8410-01-415-1572—Shirt, Dress, Army, Women's, Long Sleeved, Green, 6Px29½

8410-01-415-1571—Shirt, Dress, Army, Women's, Long Sleeved, Green, 4Px29½

Mandatory Source(s) of Supply: Middle Georgia Diversified Industries, Inc., Dublin, GA

Contracting Activity: Defense Logistics Agency Troop Support

Service

Service Type: Custodial Service

Mandatory for: Marine Corps Reserve Center, West Trenton, NJ

Mandatory Source(s) of Supply: Occupational Training Center of Burlington County, Burlington, NJ

Contracting Activity: Dept of the Navy, Navy Facilities Engineering Command

Patricia Briscoe,
Deputy Director, Business Operations (Pricing and Information Management).

[FR Doc. 2017-18093 Filed 8-24-17; 8:45 am]

BILLING CODE 6353-01-P